DEPARTMENT OF COMMERCE

Foreign-Trade Zones Board

[B-79-2012]

Foreign-Trade Zone 147—Reading, PA Application for Reorganization Under Alternative Site Framework

An application has been submitted to the Foreign-Trade Zones (FTZ) Board (the Board) by the FTZ Corporation of Southern Pennsylvania, grantee of FTZ 147, requesting authority to reorganize the zone under the alternative site framework (ASF) adopted by the Board (15 CFR 400.2(c)). The ASF is an option for grantees for the establishment or reorganization of zones and can permit significantly greater flexibility in the designation of new subzones or “usage-driven” FTZ sites for operators/users located within a grantee's “service area” in the context of the Board's standard 2,000-acre activation limit for a zone. The application was submitted pursuant to the Foreign-Trade Zones Act, as amended (19 U.S.C. 81a-81u), and the regulations of the Board (15 CFR part 400). It was formally filed on November 1, 2012.

FTZ 147 was approved by the Board on June 28, 1988 (Board Order 378, 53 FR 26094, 7/11/1988) and expanded on February 25, 1997 (Board Order 871, 62 FR 10520-10521, 3/7/1997), November 3, 2005 (Board Order 1417, 70 FR 69937, 11/18/2005) and May 29, 2009 (Board Order 1615, 74 FR 28890, 6/18/2009).

The current zone includes the following sites: Site 1 (865 acres)—Reading Municipal Airport, 2502 Bernville Road, Reading; Site 2 (6.64 acres)—Hamm International and KMX International, 2nd and Grand Streets, Hamburg; Site 3 (160.71 acres)—Excelsior Industrial Park, Maiden Creek Township; Site 4 (272.33)—International Trade District of York, York; Site 5 (54.42 acres)—Penn Township Industrial Park, York; Site 7 (155 acres)—Greensprings Industrial Park, 305 Green Spring Road, York; Site 8 (152 acres)—Fairview Business Park, McCarthy Drive and Industrial Drive, Lewisberry; Site 9 (34 acres)—Chambersburg Industrial Park, 900 Kriner Road, Chambersburg; Site 10 (1,214 acres)—Cumberland Valley Business Park, 5121A Coffey Ave., Chambersburg; Site 11 (310 acres)—ProLogis Park 81, I-81 and Walnut Bottom Road, Shippensburg; Site 12 (242 acres)—LogistiCenter, Allen Road Extension and Distribution Drive, Carlisle; Site 13 (100 acres)—Capital Business Center, 400 First Street, Middletown; Site 14 (164 acres)—Conewago Industrial Park, 1100 Zeager Road, Elizabethtown; Site 16 (134 acres)—Matrix Development Group, 1201 South Antrim Way, Greencastle; Site 17 (256 acres)—United Business Park, 7810 Olde Scotland Road, Shippensburg; Site 18 (208 acres)—Key Logistics Park, Centerville Road, Newville; Site 19 (292 acres)—I-81 Commerce Park, Walnut Bottoms Road, Shippensburg; Site 20 (14.5 acres)—GlaxoSmithKline, 105 Willow Springs Lane, York; Site 21 (4.4 acres)—Southern Cross Logistics, Inc., 2800 Concord Road Rd. Ste A, York; Site 22 (214 acres)—Caterpillar Logistics, 600 & 601 Memory Lane, York; Site 23 (9.17 acres)—D&D Distribution Services, 789 Kings Mill Road, York; Site 24 (24 acres)—401 Moulstown Road, Penn Township; Site 25 (1 acre)—633-641 Lowther Road, Lewisberry; and, Site 26 (151 acres)—Guilford Springs Road, Guilford Township.

The grantee's proposed service area under the ASF would be Berks, Cumberland, Dauphin, Franklin, Lancaster and York Counties, as described in the application. If approved, the grantee would be able to serve sites throughout the service area based on companies' needs for FTZ designation. The proposed service area is within and adjacent to the Harrisburg Customs and Border Protection port of entry.

The applicant is requesting authority to reorganize its existing zone project to include existing sites 1-5, 7-14, 16-19 and 23-26 as “magnet” sites and existing sites 20-22 as “usage-driven” sites. The ASF allows for the possible exemption of one magnet site from the “sunset” time limits that generally apply to sites under the ASF, and the applicant proposes that Site 1 be so exempted. The application would have no impact on FTZ 147's previously authorized subzones.

In accordance with the Board's regulations, Elizabeth Whiteman of the FTZ Staff is designated examiner to evaluate and analyze the facts and information presented in the application and case record and to report findings and recommendations to the Board.

Public comment is invited from interested parties. Submissions shall be addressed to the Board's Executive Secretary at the address below. The closing period for their receipt is January 7, 2013. Rebuttal comments in response to material submitted during the foregoing period may be submitted during the subsequent 15-day period to January 22, 2013.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz. For further information, contact Elizabeth Whiteman at Elizabeth.Whiteman@trade.gov or (202) 482-0473.

Dated: November 1, 2012.
Andrew McGilvray,
Executive Secretary.

[FR Doc. 2012-27286 Filed 11-6-12; 8:45 am]

BILLING CODE 3510-DS-P